DEPARTMENT OF ENERGY

Federal Energy Regulatory Commission

Combined Notice of Filings #1

Take notice that the Commission received the following electric rate filings:

Docket Numbers: ER19-404-005.

Applicants: Public Service Company of Colorado.

Description: Compliance filing: 2022-08-11 Att O-SPS-Tbl 11, Tbl 21A-Priority Order to be effective 2/1/2019.

Filed Date: 8/11/22.

Accession Number: 20220811-5034.

Comment Date: 5 p.m. ET 9/1/22.

Docket Numbers: ER21-283-004.

Applicants: Hillcrest Solar I, LLC.

Description: Refund Report: refund report Aug 2022 to be effective N/A.

Filed Date: 8/11/22.

Accession Number: 20220811-5115.

Comment Date: 5 p.m. ET 9/1/22.

Docket Numbers: ER22-1804-000.

Applicants: Yaphank Fuel Cell Park, LLC.

Description: Refund Report: Refund report to be effective N/A.

Filed Date: 8/11/22.

Accession Number: 20220811-5085.

Comment Date: 5 p.m. ET 9/1/22.

Docket Numbers: ER22-1905-001.

Applicants: Southwest Power Pool, Inc.

Description: Tariff Amendment: Deficiency Response—Revisions to Define Electromagnetic Transient Study to be effective 8/1/2022.

Filed Date: 8/11/22.

Accession Number: 20220811-5011.

Comment Date: 5 p.m. ET 9/1/22.

Docket Numbers: ER22-2631-000.

Applicants: Public Service Company of Colorado.

Description: Tariff Amendment: 2020-08-10 PSCoES PLGIA-591-0.1.0-NOC to be effective 8/11/2022.

Filed Date: 8/10/22.

Accession Number: 20220810-5122.

Comment Date: 5 p.m. ET 8/31/22.

Docket Numbers: ER22-2632-000.

Applicants: Vistra Corp., Joppa BESS LLC, Edwards BESS LLC.

Description: Request for Waiver, et al. of Vistra Corp.

Filed Date: 8/5/22.

Accession Number: 20220805-5156.

Comment Date: 5 p.m. ET 8/26/22.

Docket Numbers: ER22-2633-000.

Applicants: Southwest Power Pool, Inc.

Description: § 205(d) Rate Filing: 3923R1 Seven Cowboy Wind Project GIA to be effective 8/8/2022.

Filed Date: 8/11/22.

Accession Number: 20220811-5037.

Comment Date: 5 p.m. ET 9/1/22.

Docket Numbers: ER22-2634-000.

Applicants: Buffalo Ridge Wind, LLC.

Description: Baseline eTariff Filing: Buffalo Ridge Wind, LLC Application for Market-Based Rate Authority 8/11/2022 to be effective 10/11/2022.

Filed Date: 8/11/22.

Accession Number: 20220811-5041.

Comment Date: 5 p.m. ET 9/1/22.

Docket Numbers: ER22-2635-000.

Applicants: Virginia Electric and Power Company, PJM Interconnection, L.L.C.

Description: § 205(d) Rate Filing: Virginia Electric and Power Company submits tariff filing per 35.13(a)(2)(iii: Dominion revisions to PJM Tariff Att. H-16C (Other Post-Employment Benefits Exp) to be effective 10/11/2022.

Filed Date: 8/11/22.

Accession Number: 20220811-5044.

Comment Date: 5 p.m. ET 9/1/22.

Docket Numbers: ER22-2636-000.

Applicants: Florida Power & Light Company.

Description: § 205(d) Rate Filing: FPL-FPU Amendment to Service Agreement No. 5 and Transfer of Records to be effective 12/31/9998.

Filed Date: 8/11/22.

Accession Number: 20220811-5054.

Comment Date: 5 p.m. ET 9/1/22.

Docket Numbers: ER22-2637-000.

Applicants: Gulf Power Company.

Description: Tariff Amendment: Notice of Cancellation—Service Agreement No. 5 to be effective 12/31/9998.

Filed Date: 8/11/22.

Accession Number: 20220811-5056.

Comment Date: 5 p.m. ET 9/1/22.

Docket Numbers: ER22-2638-000.

Applicants: Bellevue Solar, LLC.

Description: Tariff Amendment: Notice of Cancellation of FERC Electric MBR Tariff, Original Volume No. 1 to be effective 10/10/2022.

Filed Date: 8/11/22.

Accession Number: 20220811-5071.

Comment Date: 5 p.m. ET 9/1/22.

Docket Numbers: ER22-2639-000.

Applicants: Yamhill Solar, LLC.

Description: Tariff Amendment: Notice of Cancellation of FERC Electric MBR Tariff, Original Volume No. 1 to be effective 10/10/2022.

Filed Date: 8/11/22.

Accession Number: 20220811-5072.

Comment Date: 5 p.m. ET 9/1/22.

Docket Numbers: ER22-2640-000.

Applicants: PJM Interconnection, L.L.C.

Description: § 205(d) Rate Filing: First Revised ISA No. 2794; Queue No. AF1-262 to be effective 7/14/2022.

Filed Date: 8/11/22.

Accession Number: 20220811-5087.

Comment Date: 5 p.m. ET 9/1/22.

Docket Numbers: ER22-2641-000.

Applicants: PJM Interconnection, L.L.C.

Description: § 205(d) Rate Filing: Original NSA, Service Agreement No. 6587; Queue No. AB1-132 to be effective 7/12/2022.

Filed Date: 8/11/22.

Accession Number: 20220811-5122.

Comment Date: 5 p.m. ET 9/1/22.

Docket Numbers: ER22-2642-000.

Applicants: PJM Interconnection, L.L.C.

Description: § 205(d) Rate Filing: Amendment to WMPA, Service Agreement No. 5376; Queue No. AE1-098 to be effective 3/29/2019.

Filed Date: 8/11/22.

Accession Number: 20220811-5124.

Comment Date: 5 p.m. ET 9/1/22.

Docket Numbers: ER22-2643-000.

Applicants: Three Corners Solar, LLC.

Description: Baseline eTariff Filing: Market-Based Rate Application to be effective 10/11/2022.

Filed Date: 8/11/22.

Accession Number: 20220811-5125.

Comment Date: 5 p.m. ET 9/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2022.
Debbie-Anne A. Reese,
Deputy Secretary.

[FR Doc. 2022-17686 Filed 8-16-22; 8:45 am]

BILLING CODE 6717-01-P